NUCLEAR REGULATORY COMMISSION

[Docket Nos. 50-247 and 50-286, License Nos. DPR-26 and DPR-64]

Entergy Nuclear Operations, Inc.; Receipt of Request for Action Under 10 CFR 2.206

Notice is hereby given that by petition dated April 23, 2003, Richard Blumenthal, Attorney General for the State of Connecticut (petitioner) has requested that the U.S. Nuclear Regulatory Commission (NRC) take action with regard to Indian Point Nuclear Generating Unit Nos. 2 and 3. The petitioner requests that the NRC (1) order the licensee for the Indian Point Nuclear Generating Unit Nos. 2 and 3 (IP2 and 3) to conduct a full review of the facility's vulnerabilities, security measures, and evacuation plans and to suspend operations, revoke the operating license, or adopt other measures resulting in a temporary shutdown of IP2 and 3; (2) require the licensee to provide information documenting the existing security measures which provide the Indian Point facility with protection against terrorist attacks; (3) immediately modify the IP2 and 3 operating licenses to mandate a defense and security system sufficient to protect the entire facility from a land- or water-based terrorist attack; (4) order the revision of the licensee's Emergency Response Plan and the Radiological Emergency Response Plans of the State of New York and the nearby counties to account for possible terrorist attacks; and (5) take prompt action to permanently retire the facility if, after conducting a full review of the facility's vulnerabilities, security measures, and evacuation plans, the NRC cannot sufficiently ensure the security of the IP facility against terrorist threats, or cannot ensure the safety of New York and Connecticut citizens in the event of an accident or terrorist attack.

As the basis for this request, the petitioner states that (1) the IP Radiological Emergency Preparedness Plan (REPP) fails to adequately inform the public in the event of a radiological emergency and relies upon selective release of critical information and irrational and unenforceable secrecy; (2) the IP REPP fails to address voluntary evacuation as required by NRC guidance documents; (3) the IP REPP fails to address family separation in its analysis of evacuation times; (4) the IP REPP fails to meet requirements for protection of foodstuffs and drinking water in 50-mile ingestion exposure pathway emergency planning zone; (5) the evacuation travel time estimates for the IP REPP fail to meet NUREG-0654/FEMA-REP-1; (6) the IP REPP fails to address administering radioprotective drugs to general population; (7) the IP REPP does not adequately address the possibility of a terrorist attack; (8) IP and NRC personnel and resources confront “dual challenges” when ensuring security at an operational facility; (9) the spent fuel storage facility is vulnerable to terrorist attack; (10) the security forces at nuclear power plants have repeatedly failed to repel mock terrorist attackers; and (11) catastrophic effects (illness and fatality data, economic loss data, and environmental consequences) will result from a terrorist attack on IP.

The request is being treated pursuant to Title 10 of the Code of Federal Regulations (10 CFR) Section 2.206 of the Commission's regulations. The request has been referred to the Director of the Office of Nuclear Reactor Regulation. As provided by Section 2.206, appropriate action will be taken on this petition within a reasonable time. The petitioner participated in a teleconference with the Petition Review Board on June 19, 2003, to discuss the petition. The results of that discussion were considered in the board's determination regarding the petitioner's request for immediate action and in establishing the schedule for the review of the petition. By letter dated July 3, 2003, the Director partially granted the petitioner's requests for immediate action requested in items 1, 2, 3, and 4 above at the Indian Point Nuclear Generating Unit Nos. 2 and 3. A copy of the petition is available for inspection at the Commission's Public Document Room (PDR), located at One White Flint North, Public File Area O1 F21, 11555 Rockville Pike (first floor), Rockville, Maryland. Publicly available records will be accessible from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209 or 301-415-4737, or by e-mail to pdr@nrc.gov.

Dated at Rockville, Maryland, this 3rd day of July 2003.
For the Nuclear Regulatory Commission.
Samuel J. Collins,
Director, Office of Nuclear Reactor Regulation.

[FR Doc. 03-17466 Filed 7-9-03; 8:45 am]

BILLING CODE 7590-01-P